DEPARTMENT OF COMMERCE

National Oceanic and Atmospheric Administration

50 CFR Part 660

[Docket No. 200505-0127; RTID 0648-XA944]

Fisheries Off West Coast States; Modifications of the West Coast Commercial and Recreational Salmon Fisheries; Inseason Actions #1 through #9

AGENCY: National Marine Fisheries Service (NMFS), National Oceanic and Atmospheric Administration (NOAA), Commerce.

ACTION: Inseason modification of 2021 management measures.

SUMMARY: NMFS announces nine inseason actions in the 2021 ocean salmon fisheries. These inseason actions modified the commercial and recreational salmon fisheries in the area from Cape Falcon, OR to Pigeon Point, CA.

DATES: The effective dates for the inseason actions are set out in this document under the heading Inseason Actions.

FOR FURTHER INFORMATION CONTACT: Christina Iverson at 360-742-2506, Email: Christina.iverson@noaa.gov.

SUPPLEMENTARY INFORMATION:

Background

In the 2020 annual management measures for ocean salmon fisheries (85 FR 27317, May 8, 2020), NMFS announced management measures for the commercial and recreational fisheries in the area from U.S./Canada border to the U.S./Mexico border, effective from 0001 hours Pacific Daylight Time (PDT), May 6, 2020, until the effective date of the 2021 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council) and the appropriate State Directors (50 CFR 660.409(b)—Flexible inseason management provisions). The state management agencies that participated in the consultations described in this document were: The Oregon Department of Fish and Wildlife (ODFW) and the California Department of Fish and Wildlife (CDFW).

Management Areas

Management of the salmon fisheries is generally divided into two geographic areas: North of Cape Falcon (NOF) (U.S./Canada border to Cape Falcon, OR) and south of Cape Falcon (SOF) (Cape Falcon, OR, to the U.S./Mexico border). The actions described in this document affected SOF fisheries as set out under the heading Inseason Actions.

Reason and Authorization for Inseason Actions #1-#9

The fisheries affected by the inseason actions described below were authorized in the final rule for 2020 annual management measures for ocean salmon fisheries (85 FR 27317, May 8, 2020). At its March 2-11, 2021 meeting, the Council's Salmon Technical Team (STT) presented updated stock abundance forecasts for salmon stocks managed under the Pacific Coast Salmon Fishery Management Plan (FMP). Based on the STT's report, SOF ocean salmon fisheries will be constrained in 2021 by the low abundance forecast for Klamath River fall-run Chinook salmon (KRFC), which was determined to be overfished under the Magnuson-Stevens Fishery Conservation and Management Act (MSA) in 2018. The forecast of potential spawner abundance for KRFC in 2021 is 42,098 natural area spawners; this is 31 percent of the average forecast of potential KRFC spawners over the previous 9 years (2012-2020).

NMFS is taking the inseason actions described below to manage and conserve SOF ocean salmon fishery impacts on overfished KRFC by reducing impacts in spring fisheries through closure or shortened fisheries in areas that impact KRFC. In Oregon, these inseason actions include dividing the area from Cape Falcon to Humbug Mountain at the Heceta Bank Line, which is the port area analysis boundary used by the STT. This allows for finer-scale management of fisheries in the Northern Oregon (NO) (Cape Falcon to Heceta Bank Line) and Central Oregon (CO) (Heceta Bank Line to Humbug Mountain) port areas. The NO and CO port area impacts are analyzed separately by the STT and in the environmental assessment prepared under the National Environmental Policy Act (NEPA) (https://media.fisheries.noaa.gov/dam-migration/2020_ocean_salmon_management_ea_and_fonsi.pdf) and have different impacts on salmon stocks; e.g., the NO port area has lower impacts on KRFC than the CO port area.

The NMFS West Coast Regional Administrator (RA) considered the abundance forecasts for Chinook salmon stocks and the impacts of the SOF ocean salmon fisheries, as modeled by the STT, and determined that the inseason actions, described below, were necessary to meet management and conservation goals set preseason. These inseason actions modify boundaries under 50 CFR 660.409(b)(1)(v) and fishing seasons under 50 CFR 660.409(b)(1)(i).

Consultation under 50 CFR 660.409(b) on these inseason actions occurred on March 10, 2021. Representatives from NMFS, ODFW, CDFW, and Council staff participated in this consultation. The Council may consider further inseason action at its April 6-15, 2021, meeting.

Inseason Actions

Inseason Action #1

Description of the action: Inseason action #1 modified the boundaries in the commercial ocean salmon fishery between Cape Falcon, OR, and Humbug Mountain, OR, by dividing the area consistent with the NO and CO port analysis areas at the Heceta Bank Line (latitude 43°58′00″ N). The boundaries of the resulting sub-areas are: Cape Falcon, OR, to the Heceta Bank Line and the Heceta Bank Line to Humbug Mountain, OR.

Effective dates: Inseason action #1 took effect on March 11, 2021, and remains in effect until superseded.

Inseason Action #2

Description of the action: Inseason action #2 delayed the opening date of the commercial ocean salmon fishery from Cape Falcon, OR, to the Heceta Bank Line, previously scheduled to open March 15, 2021. This fishery will now open March 20, 2021.

Effective dates: Inseason action #2 took effect on March 15, 2021, and remains in effect until superseded.

Inseason Action #3

Description of the action: Inseason action #3 delayed the opening date of the commercial ocean salmon fishery from the Heceta Bank Line to Humbug Mountain, OR, previously scheduled to open March 15, 2021.

Effective dates: Inseason action #3 took effect March 15, 2021, and remains in effect until superseded.

Inseason Action #4

Description of the action: Inseason action #4 delayed the opening date of the commercial ocean salmon fishery from Humbug Mountain, OR, to the Oregon/California border, previously scheduled to open March 15, 2021. This fishery will now open March 20, 2021.

Effective dates: Inseason action #4 took effect March 15, 2021, and remains in effect until superseded.

Inseason Action #5

Description of the action: Inseason action #5 closes the commercial ocean salmon fishery in the area from the Oregon/California border to the Humboldt South Jetty, CA, previously scheduled for May 1, 2021 to May 31, 2021.

Effective dates: Inseason action #5 takes effect May 1, 2021, and remains in effect until superseded.

Inseason Action #6

Description of the action: Inseason action #6 delays the opening date of the commercial ocean salmon fishery from the Horse Mountain, CA, to Point Arena, CA, previously scheduled to open April 15, 2021.

Effective dates: Inseason action #6 takes effect April 15, 2021, and remains in effect until superseded.

Inseason Action #7

Description of the action: Inseason action #7 closes the recreational ocean salmon fishery from the Oregon/California border to Horse Mountain, CA, previously scheduled to open May 1, 2021.

Effective dates: Inseason action #7 takes effect May 1, 2021, and remains in effect until superseded.

Inseason Action #8

Description of the action: Inseason action #8 closes the recreational ocean salmon fishery from Horse Mountain, CA, to Point Arena, CA, previously scheduled to open April 3, 2021.

Effective dates: Inseason action #8 takes effect April 3, 2021, and remains in effect until superseded.

Inseason Action #9

Description of the action: Inseason action #9 closes the opening date of the recreational ocean salmon fishery from Point Arena, CA, to Pigeon Point, CA, previously scheduled to open April 3, 2021.

Effective dates: Inseason action #9 takes effect April 3, 2021, and remains in effect until superseded.

All other restrictions and regulations remain in effect as announced for the 2020 ocean salmon fisheries (85 FR 27317, May 8, 2020) and as modified by previous inseason actions (85 FR 31707, May 27, 2020, 85 FR 55784, September 10, 2020, and 86 FR 13824, March 11, 2021).

The RA determined that these inseason actions, recommended by the States of Oregon, and California, were warranted based on the best available information on Pacific salmon abundance forecasts and anticipated fishery effort. The states manage the fisheries in state waters adjacent to the areas of the U.S. exclusive economic zone consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues these actions pursuant to section 305(d) of the MSA. These actions are required by 50 CFR 660.409, which was issued pursuant to section 304(b), and is exempt from review under Executive Order 12866.

Pursuant to 5 U.S.C. 553(b)(B), there is good cause to waive prior notice and an opportunity for public comment on these actions, as notice and comment would be impracticable and contrary to the public interest. Prior notice and opportunity for public comment was impracticable because NMFS and the state agencies had insufficient time to provide for prior notice and the opportunity for public comment between the time Chinook salmon abundance, catch, and effort information was developed and fisheries impacts were calculated, and the time the fishery modifications had to be implemented in order to ensure that fisheries are managed based on the best available scientific information, ensuring that conservation objectives and limits for impacts to overfished salmon stocks are not exceeded. As previously noted, actual notice of the regulatory action was provided to fishers through telephone hotline and radio notification. This action complies with the requirements of the annual management measures for ocean salmon fisheries (85 FR 27317, May 8, 2020), the FMP, and regulations implementing the FMP under 50 CFR 660.409 and 660.411.

There is good cause under 5 U.S.C. 553(d)(3) to waive the 30-day delay in effective date, as a delay in effectiveness of these actions would allow fishing at levels inconsistent with the goals of the FMP and the current management measures.

Authority: 16 U.S.C. 1801 et seq.

Dated: March 25, 2021.
Jennifer M. Wallace,
Acting Director, Office of Sustainable Fisheries, National Marine Fisheries Service.

[FR Doc. 2021-06516 Filed 3-25-21; 4:15 pm]

BILLING CODE 3510-22-P